DEPARTMENT OF ENERGY

Federal Energy Regulatory Commission

Notice of Effectiveness of Exempt Wholesale Generator Status

| Docket Nos.
CPV Backbone Solar, LLC | EG24-100-000
Prescott Wind Energy LLC | EG24-101-000
Wythe County Solar Project, LLC | EG24-102-000
AP Sunray, LLC | EG24-103-000
Delilah Solar Energy II LLC | EG24-104-000
Samson Solar Energy II LLC | EG24-105-000
68SF 8me LLC | EG24-106-000
Tyson Nick Solar Project, LLC | EG24-107-000
SR Toombs, LLC | EG24-108-000
Russellville Solar LLC | EG24-109-000
SR Ailey, LLC | EG24-110-000
SR Toombs Lessee, LLC | EG24-111-000
Crossett Solar Energy, LLC | EG24-112-000
Catalyze Bronx Bassett Ave Microgrid, LLC | EG24-114-000
Yuma Solar Energy LLC | EG24-115-000
20SD 8me LLC | EG24-116-000
FL Solar 7, LLC | EG24-117-000
White Wing Ranch North, LLC | EG24-118-000
EDPR Scarlet II BESS LLC | EG24-119-000
EDPR Scarlet II LLC | EG24-120-000
Elawan Pitts Dudik Solar II, LLC | EG24-121-000
Flatland Storage LLC | EG24-122-000
Hickory Solar LLC | EG24-123-000
Ragsdale Solar, LLC | EG24-124-000
Randolph Solar Park LLC | EG24-125-000
Wolf Run Solar LLC | EG24-126-000
Bartonsville Energy Facility, LLC | EG24-127-000

Take notice that during the month of April 2024, the status of the above-captioned entities as Exempt Wholesale Generators became effective by operation of the Commission's regulations. 18 CFR 366.7(a) (2023).

Dated: May 1, 2024.
Debbie-Anne A. Reese,
Acting Secretary.

[FR Doc. 2024-09981 Filed 5-7-24; 8:45 am]

BILLING CODE 6717-01-P